OCCUPATIONAL SAFETY AND HEALTH REVIEW COMMISSION

Proposed Information Collection; Comment Request

AGENCY: Occupational Safety and Health Review Commission.

ACTION: Notice of request for public comment and submission to OMB of proposed collection of information.

SUMMARY: In compliance with the Paperwork Reduction Act of 1995 (PRA) (44 U.S.C. 3501 et seq.), on April 4, 2012 (77 FR 20442), the Occupational Safety and Health Review Commission (OSHRC) published a 60-day notice in the Federal Register soliciting public comment on the proposed information collection described below.

In further compliance with the PRA, OSHRC now publishes this second notice announcing the submission of its proposed collection to the Office of Management and Budget (OMB) for review and notifying the public about how to submit comments on the proposed collection to OMB during the 30-day comment period.

DATES: Comments must be submitted to OMB on or before August 1, 2012.

ADDRESSES: Submit all comments to the Office of Information and Regulatory Affairs, Attn: OMB Desk Officer for the Occupational Safety and Health Review Commission, Office of Management and Budget, Room 10235, Washington, DC 20503, Telephone: (202) 395-6929/Fax: (202) 395-6881 (these are not toll-free numbers), email: OIRA_submission@omb.eop.gov.

FOR FURTHER INFORMATION CONTACT: Requests for information or copies of the proposed information collection instrument should be directed to John X. Cerveny, Deputy Executive Secretary, Occupational Safety and Health Review Commission, 1120 20th Street NW., Ninth Floor, Washington, DC 20036-3457; Telephone (202) 606-5706; email address: pracomments@oshrc.gov.

SUPPLEMENTARY INFORMATION: OSHRC's Settlement Part program, codified at 29 CFR 2200.120, is designed to encourage settlements on contested citations issued by the U.S. Department of Labor's Occupational Safety and Health Administration (OSHA) and to reduce litigation costs. The program requires employers who receive job safety or health citations that include proposed penalties of $100,000 or more in total to participate in formal settlement talks presided over by an OSHRC Administrative Law Judge. If settlement efforts fail, the case would continue under OSHRC's conventional proceedings, usually before a judge other than the one who presided over the settlement proceedings.

OSHRC previously submitted for OMB review a proposed information collection from participants in the Settlement Part program. A copy of that information collection request (ICR), reference number 201202-3202-001, with applicable supporting documentation, may be obtained from the RegInfo.gov Web site, http://www.reginfo.gov/public/do/PRAMain, or by contacting John X. Cerveny, Deputy Executive Secretary, Occupational Safety and Health Review Commission, 1120 20th Street NW., Ninth Floor, Washington, DC 20036-3457; Telephone (202) 606-5706; email address: pracomments@oshrc.gov.

OSHRC proposes to conduct a second voluntary survey of employer, Department of Labor (OSHA) personnel (decision makers), Authorized Employee Representatives, and their representatives, including attorneys, who personally participated in OSHRC cases between February 15, 2011 and June 30, 2012, where a total proposed penalty between $50,000 and $99,999 was involved and where OSHRC Settlement Part Process procedures were not used. The cases would include those settled by the parties without an OSHRC judge conducting a face-to-face settlement proceeding, as well as any cases within the above dollar range that went to a trial on the merits. These cases would be considered part of a control group. Participant responses will be used for comparative purposes and to facilitate our understanding of the efficacy of the Settlement Part program. The proposed information collection instrument is a written survey consisting of a series of questions to determine participants' level of satisfaction with OSHRC processes and outcomes. They are intended to take a respondent no more than 30 minutes to complete. The respondents may skip any questions that they do not feel comfortable answering, and are permitted to comment further on their experiences at the end of the questionnaire.

OSHRC has submitted this second proposed information collection to OMB for review, as required by the PRA. OSHRC invites comments to be submitted to OMB on: (1) Whether the proposed collection of information is necessary for the proper performance of the agency's functions, including whether the information will have practical utility; (2) the accuracy of the agency's estimate of the burden of the proposed collection of information, including the validity of the methodology and assumptions used; (3) ways to enhance the quality, utility, and clarity of the information to be collected; and (4) ways to minimize the burden of the information collection on respondents, including through the use of automated collection techniques, when appropriate, and other forms of information technology.

OMB Control Number: Not applicable, new request.

Form Number: Not applicable.

Type of Review: Regular submission (new information collection).

Title: Survey of Participants in OSHRC Conventional Proceedings where between $50,000 and $99,999 is at issue.

Description: Information collection required to evaluate the Review Commission's Settlement Part process.

Affected Public: Employer and Department of Labor (OSHA) personnel (decision makers), Authorized Employee Representatives, and their representatives, including attorneys, who have personally participated in OSHRC cases between February 15, 2011 and June 30, 2012, where a total proposed penalty between $50,000 and $99,999 was involved and where OSHRC Settlement Part Process procedures were not used.

Estimated Number of Respondents: 300.

Estimated Time per Response: 30 minutes.

Estimated Total Reporting Burden: 150 hours.

Obligation to respond: Voluntary.

Dated: June 26, 2012.
Debra Hall,
Executive Director.

[FR Doc. 2012-16158 Filed 6-29-12; 8:45 am]

BILLING CODE 7600-01-P